ENVIRONMENTAL PROTECTION AGENCY

[OPP-00654A; FRL-6793-4]

Pesticides; Final Guidance for Pesticide Registrants on Disposal Instructions for Non-Antimicrobial, Residential/Household Use Pesticide Product Labels

AGENCY: Environmental Protection Agency (EPA).

ACTION: Notice of availability.

SUMMARY: The Agency is announcing the availability of a Pesticide Registration Notice (PR-Notice) entitled “Disposal Instructions on Non- Antimicrobial, Residential/Household Use Pesticide Product Labels.” This PR-Notice was issued by the Agency on September 7, 2001, and is identified as PR-Notice 2001-6. A draft for comment of this notice was published in the Federal Register of June 14, 2000 (65 FR 37383) (FRL-6553-4), with a 60-day comment period. PR-Notices are issued by the Office of Pesticide Programs (OPP) to inform pesticide registrants and other interested persons about important policies, procedures and registration-related decisions, and serve to provide guidance to pesticide registrants and OPP personnel. This particular PR-Notice provides guidance to the registrant concerning disposal instructions for both empty and partly filled containers of non-antimicrobial, residential/household use pesticide product labels. The revised instructions should decrease the number of accidental exposures to sanitation workers and to the environment and allow state/local governments greater latitude in carrying out their responsibilities for product disposal and waste management programs.

FOR FURTHER INFORMATION CONTACT: By mail: Amy L. Breedlove, Field and External Affairs Division (7506C), Office of Pesticide Programs, Environmental Protection Agency, 1200 Pennsylvania Ave., NW., Washington, DC 20460; telephone number: (703) 308-9069; fax number: (703) 305-5884; e-mail address: Breedlove.amy@epa.gov.

SUPPLEMENTARY INFORMATION:

I. Does this Action Apply to Me?

This action is directed to the public in general. Although this action may be of particular interest to those persons who are required to register, regulate, or label pesticides, people who manage or regulate household hazardous waste facilities or collection events may also be interested in this notice. Since other entities may also be interested, the Agency has not attempted to describe all the specific entities that may be affected by this action. If you have any questions regarding the information in this notice, consult the person listed under FOR FURTHER INFORMATION CONTACT.

II. What Guidance Does this PR Notice Provide?

This PR-Notice provides guidance to the registrant concerning the development of disposal instructions for non-antimicrobial, residential/household use pesticide product labels. EPA is providing instructions that direct consumers to call their local solid waste authorities for specific disposal instructions for partly filled containers, rather than directing them to wrap the container in paper and dispose of it in the trash. The notice also informs registrants of what EPA considers to be a residential/household use pesticide; provides criteria to be met by any toll-free phone number provided within the disposal instructions; and addresses how to develop recycling statements and why providing a rationale to consumers for following the disposal instructions is useful. The new instructions provide state and local governments greater latitude in carrying out their responsibilities for product disposal and waste management programs and decreases the potential for accidental pesticide exposures to sanitation workers and to the environment.

III. Do PR-Notices Contain Binding Requirements?

The PR-Notice discussed in this notice is intended to provide guidance to EPA personnel and decision-makers and to pesticide registrants. While the requirements in the statutes and Agency regulations are binding on EPA and the applicants, this PR-Notice is not binding on either EPA or pesticide registrants, and EPA may depart from the guidance where circumstances warrant and without prior notice. Likewise, pesticide registrants may assert that the guidance is not appropriate generally or not applicable to a specific pesticide or situation.

IV. How Can I Get Additional Information, Including Copies of this Document and Other Related Documents?

1. Electronically. You may obtain an electronic copy of this Federal Register document using the date of publication from the listing of EPA Federal Register documents at http://www.epa.gov/fedrgstr/. You may obtain an electronic copy of this PR-Notice, as well as other PR-Notices, both final and draft, at http://www.epa.gov/PR_Notices/.

2. Fax-on-demand. You may request a faxed copy of the PR-Notice entitled “Disposal Instructions on Non-antimicrobial, Residential/Household Use Pesticide Product Labels,” by using a faxphone to call (202) 401-0527 and selecting item 6143. You may also follow the automated menu.

3. In person. The Agency has established an official record for this action under docket control number OPP-00654A. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Highway, Arlington, VA, from 8:30 a.m. to 4 p.m., Monday through Friday, excluding legal holidays. The PIRIB telephone number is (703) 305-5805.

List of Subjects

Environmental protection, Administrative practice and procedure, Agricultural commodities, Pesticides and pests.

Dated: September 7, 2001.
Marcia E. Mulkey,
Director, Office of Pesticide Programs.

[FR Doc. 01-23458 Filed 9-19-01; 8:45 am]

BILLING CODE 6560-50-S